DEPARTMENT OF COMMERCE

International Trade Administration

[A-201-865, A-549-854, A-552-849]

Certain Chassis and Subassemblies Thereof From Mexico, Thailand, and the Socialist Republic of Vietnam: Postponement of Preliminary Determinations in the Less-Than-Fair-Value Investigations

AGENCY: Enforcement and Compliance, International Trade Administration, Department of Commerce.

DATES: Applicable July 18, 2025.

FOR FURTHER INFORMATION CONTACT: Jun Jack Zhao at (202) 482-1396 (Mexico), Jacob Keller at (202) 482-4849 (Thailand), Elizabeth Beuley at (202) 482-3269 (the Socialist Republic of Vietnam (Vietnam), AD/CVD Operations, Enforcement and Compliance, International Trade Administration, U.S. Department of Commerce, 1401 Constitution Avenue NW, Washington, DC 20230.

SUPPLEMENTARY INFORMATION:

Background

On March 24, 2025, the U.S. Department of Commerce (Commerce) initiated less-than-fair-value (LTFV) investigations of imports of certain chassis and subassemblies thereof (chassis) from Mexico, Thailand, and Vietnam.¹ Currently, the preliminary determinations in these investigations are due to be issued no later than August 5, 2025.

¹ See Certain Chassis and Subassemblies Thereof From Mexico, Thailand, and the Socialist Republic of Vietnam: Initiation of Less-Than-Fair-Value Investigations, 90 FR 13457 (March 24, 2025).

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On July 8, 2025, the petitioner ² submitted a timely request that Commerce postpone the preliminary determinations in these LTFV investigations.³ The petitioner stated that it requests postponement to allow Commerce time to issue supplemental questionnaires and receive responses prior to making its preliminary determinations. Moreover, the petitioner notes that these cases involve a complex product and there are a number of unique and complicated issues present in these cases that require additional time to conduct the proper analysis since this is the first time Commerce is examining the product in a market economy context.⁴

² The petitioner is the U.S. Chassis Manufacturers Coalition.

³ See Petitioner`s Letter, “Request to Postpone Preliminary Determination,” dated July 8, 2025.

⁴ Id.

For the reasons stated above and because there are no compelling reasons to deny the petitioner's request, Commerce, in accordance with section 733(c)(1)(A) of the Act, is postponing the deadline for the preliminary determinations by 50 days (i.e., 190 days after the date on which these investigations were initiated). As a result, Commerce will issue its preliminary determinations no later than September 24, 2025. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: July 15, 2025.
Christopher Abbott,
Deputy Assistant Secretary for Policy and Negotiations, performing the non-exclusive functions and duties of the Assistant Secretary for Enforcement and Compliance.

[FR Doc. 2025-13550 Filed 7-17-25; 8:45 am]

BILLING CODE 3510-DS-P